DEPARTMENT OF DEFENSE

Department of the Navy

Meeting of the Secretary of the Navy Advisory Panel

AGENCY: Department of the Navy, DoD.

ACTION: Amendment.

SUMMARY: Announcement of the Secretary of the Navy Advisory Panel meeting scheduled for April 20, 2015, (Federal Register, Volume 80, No. 67, Wednesday, April 8, 2015) did not comply with 41 CFR 102-3.150(a). After subsequent review and pursuant to 41 CFR 102-3.150(b), the Advisory Committee Management Officer for the Department of the Defense waives the 15-calendar day notification requirement.

The Secretary of the Navy (SECNAV) Advisory Panel will meet 8:15 a.m. to 4:00 p.m. to review ways to establish a culture of innovation in the Department of the Navy. This meeting is opened to the public.

DATES: The meeting will be held on Monday, April 20, 2015, from 8:15 a.m. to 4:00 p.m.

ADDRESSES: The meeting will be held at the Pentagon, in Room 4B746, 1000 Navy Pentagon, Washington, DC 20350-1000.

Building Access: Public access is limited due to the Pentagon Security requirements. Any individual wishing to attend this meeting should contact Ms. Cassandra Dean at 703-697-2386 or Commander Randall Biggs at 703-695-3042 no later than April 13, 2015. Members of the public who do not have Pentagon access will be required to provide Name, Date of Birth and Social Security Number by April 13, 2015, in order to obtain visitor's clearance. Public transportation is recommended as public parking is not available. Members of the public wishing to attend this meeting must enter through the Pentagon's Metro Entrance between 7:45 a.m. and 8:00 a.m. where they will need two forms of identification in order to receive a visitor badge and meet their escort. Members will then be escorted to Room 4B746 to attend the open of the meeting of the Advisory Panel. Members of the public must remain with the designated escort at all times while in the Pentagon. After the meeting is adjourned, members of the public will be escorted back to the Pentagon Metro Entrance.

FOR FURTHER INFORMATION CONTACT: Commander Randall Biggs, SECNAV Advisory Panel, 1000 Navy Pentagon, Washington, DC 20350-1000, 703-695-3042.

SUPPLEMENTARY INFORMATION: The agenda is as follows:

April 20, 2015, speakers and discussions on the Department of the Navy Culture of Innovation Initiatives.

Individuals or interested groups may submit written statements for consideration by the SECNAV Advisory Panel at any time or in response to the agenda of a schedule meeting. All requests must be submitted to the Designated Federal Officer (DFO) at the address detailed below. If the written statement is in response to the agenda mentioned in this meeting notice, it must be received at least five days prior to the meeting in question. The DFO will review all timely submissions with the SECNAV Advisory Panel before the meeting that is the subject of this notice. For further information write to: Deputy Under Secretary of the Navy, (Policy), Secretary of the Navy Advisory Panel, Designated Federal Officer, 1000 Navy Pentagon, Washington, DC 20350-1000.

Dated: April 10, 2015.
N.A. Hagerty-Ford,
Commander, Judge Advocate General's Corps, U.S. Navy, Federal Register Liaison Officer.

[FR Doc. 2015-08867 Filed 4-16-15; 8:45 am]

BILLING CODE 3810-FF-P